DEPARTMENT OF HEALTH AND HUMAN SERVICES

Centers for Disease Control and Prevention

[Program Announcement 04054]

Youth Violence Prevention Through Community-Level Change; Notice of Availability of Funds-Amendment

A notice announcing the availability of fiscal year (FY) 2004 funds for a cooperative agreement program to evaluate community-level interventions to reduce youth violence was published in the Federal Register on December 2, 2003, volume 68, number 231, pages 67450-67455.

The notice is amended as follows: On page 67452, column 2, the section entitled “1. Abstract” should be deleted. The abstract is already included on page 2 of the PHS 398 application form in the section called “Description.” On page 67452, Column 3, and on page 67453, Column 1, the section entitled “9. Project Budget” should be deleted. The project budget information is already included on page 4 of the PHS 398 application form.

Dated: February 23, 2004.
Sandra R. Manning,
Director, Procurement and Grants Office, Centers for Disease Control and Prevention.

[FR Doc. 04-4349 Filed 2-26-04; 8:45 am]

BILLING CODE 4163-18-P